NUCLEAR REGULATORY COMMISSION

[Docket No. 50-443]

North Atlantic Energy Service Corporation; Notice of Partial Withdrawal of Application for Amendment to Facility Operating License

The U.S. Nuclear Regulatory Commission (the Commission) has granted the request of North Atlantic Energy Service Corporation (the licensee) to withdraw a portion of its August 9, 2001, application for proposed amendment to Facility Operating License No. NPF-86 for the Seabrook Station, Unit No. 1, located in Rockingham County, New Hampshire.

The withdrawn portion of the proposed amendment would have revised the Seabrook Station, Unit No. 1, Technical Specifications (TSs) to relocate TS 3/4.9.3, “Decay Time,” to the Seabrook Station Technical Requirements Manual.

The Commission had previously issued a Notice of Consideration of Issuance of Amendment published in the Federal Register on September 19, 2001 (66 FR 48290). However, by letters dated June 24, 2002, and October 14, 2002, the licensee withdrew this portion of the proposed change as discussed above.

For further details with respect to this action, see the application for amendment dated August 9, 2001, as supplemented September 17, 2001, and the licensee's letters dated June 24, 2002, and October 14, 2002, which withdrew a portion of the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc. gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 8th day of November, 2002.
For the Nuclear Regulatory Commission.
Robert D. Starkey,
Project Manager, Section 2, Project Directorate I,Division of Licensing Project Management,Office of Nuclear Reactor Regulation.

[FR Doc. 02-29062 Filed 11-14-02; 8:45 am]

BILLING CODE 7590-01-P